DEPARTMENT OF HEALTH AND HUMAN SERVICES

Agency for Healthcare Research and Quality

Request for Measures of Consumers' Health Information Delivery Experiences

AGENCY: Agency for Healthcare Research and Quality (AHRQ), DHHS.

ACTION: Notice of request for measures.

SUMMARY: The Agency for Healthcare Research and Quality (AHRQ) is soliciting the submission of instruments or items that measure how well health plans, hospitals, clinicians, and group practices address health literacy issues. Based on a literature review and an assessment of currently available questionnaires, AHRQ identified the need to develop a new health literacy module of the CAHPS® survey. The intent of the planned module is to examine patients' perspectives on how well health information is communicated to them by healthcare professionals in greater detail than before. The intent of the new module is to provide information to health plans, hospitals, clinicians, group practices, and other interested parties regarding quality of health information delivered to patients.

Based on prior work, there are several functional areas that the planned instrument could address. These include the clarity and usability of provided health information related to: (a) Preventive services (e.g., risk and benefits of the service, explanation of screening results; (b) health problems/concerns (e.g., information on how to stay healthy or prevent illness); (c) treatment choices, instructions, or goals (e.g., pros and cons of each treatment option); and (d) medications (e.g., reason for taking medications, instructions on how to take medications, possible side effects). AHRQ is especially interested in measures of patients' assessments of written communications (e.g., instructions for self-care, health promotion materials), and the use and effectiveness of educational techniques to ensure patient's comprehension of health information (e.g., allowing time for questions, repeating information, using visual aids, employing health educators to review treatment plans and follow-up). AHRQ is also interested in measures that assess the quality of services supporting health information delivery such as language assistance (e.g., availability and timeliness of interpreter services, availability of patient education materials in other language), and administrative assistance (e.g., assistance in completing medical paperwork).

DATES: Please submit instruments or individual items and supporting information on or before November 15, 2006. AHRQ will not respond individually to submitters, but will consider all submitted instruments and publicly report the results of the review of the submissions in aggregate.

ADDRESSES: Submissions should include a brief cover letter, a copy of the instrument or items for consideration and supporting information as specified under the Submission Criteria below. Submissions may be in the form of a letter or e-mail, preferably with an electronic file as an e-mail attachment. Responses of this request should be submitted to: Anna Caponiti, Center for Quality Improvement and Patient Safety, Agency for Healthcare Research and Quality, 540 Gaither Road, Rockville, MD 20850, phone: (301) 427-1402, fax: (301) 427-1341, e-mail: anna.caponiti@ahrq.hhs.gov.

To facilitate handling of submissions, please include full information about the instrument developer or contact; (a) Name, (b) title, (c) organization, (d) mailing address, (e) telephone number, (f) fax number, and (g) e-mail address. Also, please submit a copy of the instrument or items for consideration as well as evidence that they meet the criteria below. It would be appreciated if each citation of a peer-reviewed journal article pertaining to the instrument include the title of the article, author(s), publication year, journal name, volume, issue, and page numbers where article appears, but all of these details are not required. Submitters must also provide a statement of willingness to grant to AHRQ the right to use and authorize others to use submitted measures and their documentation as part of a CAHPS®-trademarked instrument. This CAHPS® instrument for patients' perspectives on the quality of health information will be made publicly available, free of charge. Electronic submissions are encouraged.

FOR FURTHER INFORMATION CONTACT: Anna Caponiti, at the address above.

SUPPLEMENTARY INFORMATION:

Background Information

The CAHPS® program was initiated in 1995 to develop a survey and report on consumers' perspectives on the quality of their health plans. Since that time, the CAHPS® program, in partnership with the Centers for Medicare and Medicaid Services (CMS) and others, has expanded its scope and developed consumer surveys and reports regarding consumer perspectives on individual clinicians, group practices, in-center hemodialysis services, nursing homes and hospitals. AHRQ determined that the CAHPS® teams should develop a survey to obtain the consumers' perspective on the quality of health information.

The vision of the Agency for Healthcare Research and Quality is to foster health care research that helps the American health care system provide access to high-quality, cost-effective services; be accountable and responsive to consumers and purchasers; and improve health status and quality of life. The CAHPS® program was developed as a result of AHRQ's vision. One of the components not examined in the current measurement set is an assessment of patients' perspectives on how well health plans, hospitals, clinicians, and group practices address health literacy issues.

Submission Criteria

Instruments submitted should focus on patient perspectives on quality of health information provided by plans, hospitals, clinicians, and/or group practices.

AHRQ is interested in measures that: (a) Assess patients' and their caregivers' experiences receiving health information and (b) demonstrate a high degree of reliability and validity. Accordingly, each submission should include, in addition to the name of the pertinent instrument, domains included, and the language(s) the instrument is available in, the following information: Evidence of cultural/cross group comparability, if any; instrument reliability (internal consistency, test-retest, etc.); validity (content, construct, criterion-related); response rates; methods and results of cognitive testing and field-testing and description of sampling strategies (including payer type); as well as data collection protocols, including such elements as mode of administration, use of advance letters, timing and frequencies of contacts. Evidence addressing these criteria should be demonstrated through submission of peer-reviewed journal article(s) or through the best evidence available at the time of submission.

In addition, a list of where the instrument has been fielded should also be included in the submission. Submission of copies of existing report formats developed to disclose findings to consumers and providers is desirable, but not required. Additionally, information about existing database(s) for the instrument(s) submitted is helpful, but not required for submission.

Submitters' willingness to grant to AHRQ the right to use and authorize others to use their instrument or item and accompanying explanatory material means that the CAHPS® trademark will be applied to a new instrument which will combine the best features of the submissions as well as any ideas that may develop from reviewing them, and also free access to this instrument, and free access to the instrument's supportive/administrative information will be ensured. AHRQ, in collaboration with CAHPS grantees, will evaluate all submitted instruments or items. As they construct the CAHPS instrument, they may select one or more either in whole or in part or modify the items prior to testing them. AHRQ will assume responsibility for the final instruments as well as any future modifications.

The final instruments will bear the CAHPS® trademark and it will be made available without charge for use by all interested parties. Submitters will have relinquished ownership of any items that appear in the final instrument. However, item ownership will be protected during testing of the survey. As a matter of quality control, there will be warnings that the CAHPS® trademark or identification may not be used if any changes are made to the instrument or final measure set without review and permission of the agency.

Dated: October 5, 2006.
Carolyn M. Clancy,
Director.

[FR Doc. 06-8673 Filed 10-13-06; 8:45 am]

BILLING CODE 4160-90-M